JUDICIAL CONFERENCE OF THE UNITED STATES

Advisory Committee on Criminal Rules; Meeting of the Judicial Conference

AGENCY: Judicial Conference of the United States.

ACTION: Advisory Committee on Criminal Rules, Notice of open meeting.

SUMMARY: The Advisory Committee on Criminal Rules will hold a meeting on May 11, 2021 in Washington, DC. The meeting will be open to public observation but not participation. An agenda and supporting materials will be posted at least 7 days in advance of the meeting at: http://www.uscourts.gov/rules-policies/records-and-archives-rules-committees/agenda-books.

DATES: May 11, 2021, 9 a.m.-5 p.m. (Eastern).

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Phone (202) 502-1820, RulesCommittee_Secretary@ao.uscourts.gov.

Authority: 28 U.S.C. 2073.

Dated: January 11, 2021.
Rebecca A. Womeldorf,
Rules Committee Secretary, Rules Committee Staff.

[FR Doc. 2021-00676 Filed 1-13-21; 8:45 am]

BILLING CODE 2210-55-P